DEPARTMENT OF THE INTERIOR

National Park Service

[NPS-WASO-NAGPRA-13940; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum, University of Washington (Burke Museum), has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Burke Museum. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Burke Museum at the address in this notice by October 30, 2013.

ADDRESSES: Peter Lape, Burke Museum, University of Washington, Box 353010, Seattle, WA 98195, telephone (206) 685-3849, email plape@uw.edu.

SUPPLEMENTARY INFORMATION: Notice is here given in accordance with the Native American Graves Protection and Repatriation Act (NAGPRA), 25 U.S.C. 3003, of the completion of an inventory of human remains under the control of the Burke Museum, Seattle, WA. The human remains were removed from Nome, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Burke Museum professional staff in consultation with representatives of the King Island Native Community, Native Village of Council, and the Nome Eskimo Community. The Burke Museum also consulted with the following Native Alaska Corporations: Bering Straits Native Corporation, Council Native Corporation, King Island Native Corporation, and the Sitnasauk Native Corporation. All of the tribes and corporations listed in this section are hereafter referred to as “The Consulted Tribes and Corporations.”

History and Description of the Remains

At an unknown date, most likely between 1914 and 1922, human remains representing, at minimum, one individual were removed from Nome Beach, AK, by C.J. Albrecht. The human remains were found in collections at the Burke Museum in 1973 (Burke Accn. #1973-58). No known individuals were identified. No associated funerary objects are present.

The human remains have been determined to be Native American based on anthropological evidence. The present-day Nome Eskimo Community is related to the aboriginal Native Inupiat archeological village sites documented in the Nome area. These archaeological sites date between 1000 and 1700 A.D., and confirm that these Native populations have continuously occupied the area since that time.

Determinations Made by the Burke Museum

Officials of the Burke Museum have determined that:

• Based on archaeological evidence, the human remains have been determined to be Native American.

• Pursuant to 25 U.S.C. 3001(9), the human remains described in this notice represent the physical remains of one individual of Native American ancestry.

• Pursuant to 25 U.S.C. 3001(2), there is a relationship of shared group identity that can be reasonably traced between the Native American human remains and the Nome Eskimo Community.

Additional Requestors and Disposition

Lineal descendants or representatives of any Indian tribe or Native Hawaiian organization not identified in this notice that wish to request transfer of control of these human remains should submit a written request with information in support of the request to Peter Lape, Burke Museum, University of Washington, Box 353010, Seattle, WA 98195, telephone (206) 685-3849, email plape@uw.edu, by October 30, 2013. After that date, if no additional requestors have come forward, transfer of control of the human remains to the Nome Eskimo Community may proceed.

The Burke Museum is responsible for notifying The Consulted Tribes and Corporations that this notice has been published.

Dated: August 27, 2013.
David Tarler,
Acting Manager, National NAGPRA Program.

[FR Doc. 2013-23817 Filed 9-27-13; 8:45 am]

BILLING CODE 4312-50-P